DEPARTMENT OF THE INTERIOR

Fish and Wildlife Service

50 CFR Part 16

[Docket No. FWS-R9-FHC-2008-0015; 94140-1342-0000-N3]

RIN 1018-AV68

Injurious Wildlife Species; Listing the Boa Constrictor, Four Python Species, and Four Anaconda Species as Injurious Reptiles

AGENCY: Fish and Wildlife Service, Interior.

ACTION: Proposed rule; reopening of comment period.

SUMMARY: We, the U.S. Fish and Wildlife Service (Service), announce the reopening of the comment period on the proposed rule to amend our regulations to add Indian python (Python molurus, including Burmese python Python molurus bivittatus), reticulated python (Broghammerus reticulatus or Python reticulatus), Northern African python (Python sebae), Southern African python (Python natalensis), boa constrictor (Boa constrictor), yellow anaconda (Eunectes notaeus), DeSchauensee's anaconda (Eunectes deschauenseei), green anaconda (Eunectes murinus), and Beni anaconda (Eunectes beniensis) to the list of injurious reptiles under the Lacey Act. If you have previously submitted comments, please do not resubmit them because we have already incorporated them in the public record and will fully consider them in our final decision.

DATES: We will consider comments received or postmarked on or before August 2, 2010. Any comments that are received after the closing date may not be considered in the final decision on this action.

ADDRESSES: You may submit comments by one of the following methods:

• Federal eRulemaking Portal: http://www.regulations.gov. In the box that reads “Enter Keyword or ID,” enter the docket number for the proposed rule, which is FWS-R9-FHC-2008-0015. Check the box that reads “Open for Comment/Submission,” and then click the Search button. You should then see an icon that reads “Submit a Comment.” Please ensure that you have found the correct rulemaking before submitting your comment.

• U.S. mail or hand-delivery: Public Comments Processing, Attn: FWS-R9-FHC-2008-0015; Division of Policy and Directives Management; U.S. Fish and Wildlife Service; 4401 N. Fairfax Drive, Suite 222; Arlington, VA 22203.

We will not accept e-mail or faxes. We will post all comments on http://www.regulations.gov. This generally means that we will post any personal information you provide us (see the Public Comments section below for more information).

Information regarding this notice is available in alternative formats upon request.

FOR FURTHER INFORMATION CONTACT: Supervisor, South Florida Ecological Services Office, U.S. Fish and Wildlife Service, 1339 20th Street, Vero Beach, FL 32960-3559; telephone 772-562-3909 ext. 256. If you use a telecommunications device for the deaf (TDD), please call the Federal Information Relay Service (FIRS) at 800-877-8339.

SUPPLEMENTARY INFORMATION: On March 12, 2010, we published a proposed rule (75 FR 11808) to list the Indian python (Python molurus, including Burmese python Python molurus bivittatus), reticulated python (Broghammerus reticulatus or Python reticulatus), Northern African python (Python sebae), Southern African python (Python natalensis), boa constrictor (Boa constrictor), yellow anaconda (Eunectes notaeus), DeSchauensee's anaconda (Eunectes deschauenseei), green anaconda (Eunectes murinus), and Beni anaconda (Eunectes beniensis) as injurious reptiles under the Lacey Act (18 U.S.C. 42). This proposed rule established a 60-day comment period, ending May 11, 2010, and announced the availability of the draft economic analysis and the draft environmental assessment of the proposed rule. At the request of the public, we are reopening the comment period for an additional 30 days.

The proposed rule (75 FR 11808; March 12, 2010), draft economic analysis, draft environmental assessment, and U.S. Geological Survey's “Giant Constrictors: Biological and Management Profiles and an Establishment Risk Assessment for Nine Large Species of Pythons, Anacondas, and the Boa Constrictor” (Reed and Rodda 2009), are available for review at http://www.regulations.gov under Docket No. FWS-R9-FHC-2008-0015, or on the South Florida Ecological Services Office Web site at http://www.fws.gov/verobeach/index.cfm?method=activityhighlights&id=11, or at South Florida Ecological Services Office (see FOR FURTHER INFORMATION CONTACT section).

Public Comments

We intend that any final action resulting from the proposed rule will be based on the best data available to the Service and be as accurate and effective as possible. Therefore, we request comments or information from other concerned government agencies, the scientific community, industry, or other interested parties concerning the proposed rule. We will consider information and recommendations from all interested parties. For the complete list of subjects on which we seek comments, please refer to the March 12, 2010, proposed rule (75 FR 11808), available online at http://www.regulations.gov under Docket No. FWS-R9-FHC-2008-0015 or from the South Florida Ecological Services Office (see FOR FURTHER INFORMATION CONTACT section).

You may submit your comments and materials concerning our proposed rule, the draft economic analysis, and the draft environmental assessment by one of the methods listed in the ADDRESSES section. We will not accept comments sent by e-mail or fax or to an address not listed in the ADDRESSES section.

If you submit a comment via http://www.regulations.gov, your entire submission―including any personal identifying information―will be posted on the Web site. Before including your address, phone number, e-mail address, or other personal identifying information in your comment, you should be aware that your entire comment―including your personal identifying information―may be made publicly available at any time. While you can ask us in your comment to withhold your personal identifying information from public review, we cannot guarantee that we will be able to do so. We will post all hardcopy submissions on http://www.regulations.gov. Please include sufficient information with your comments to allow us to verify any scientific or commercial information you include.

We are seeking substantive data and comments from the public on all aspects of the proposed rule to list the nine species of large constrictor snakes as injurious wildlife, the associated draft economic analysis, and the associated draft environmental assessment. Such information includes, but is not limited to, the biology of the nine species, existing regulations that apply to the nine species, the economic effect on wholesale and retail sales, and any other information relevant to the proposed rule. Specific questions can be found in the proposed rule (75 FR 11808; March 12, 2010). We may revise the proposed rule or supporting documents to incorporate or address information we receive during this reopened public comment period.

Comments and materials we receive, as well as supporting documentation we used in preparing the proposed rule, will be available for public inspection on http://www.regulations.gov under Docket No. FWS-R9-FHC-2008-0015, or by appointment, during normal business hours at the South Florida Ecological Services Office (see FOR FURTHER INFORMATION CONTACT section).

In preparing the final rule, we will consider all comments and any additional information that we receive during this reopened comment period on the proposed rule. Accordingly, the final decision may differ from the proposal.

Authority: The authority for this action is the Lacey Act (18 U.S.C. 42).

Dated: June 4, 2010.
Will Shafroth,
Acting Assistant Secretary for Fish and Wildlife and Parks.

[FR Doc. 2010-16068 Filed 6-30-10; 8:45 am]

BILLING CODE 4310-55-P